ENVIRONMENTAL PROTECTION AGENCY

40 CFR Part 721

[EPA-HQ-OPPT-2014-0649; FRL-9928-93]

RIN 2070-AB27

Modification of Significant New Uses of Certain Chemical Substances

AGENCY: Environmental Protection Agency (EPA).

ACTION: Final rule.

SUMMARY: EPA is amending the significant new use rules (SNURs) under section 5(a)(2) of the Toxic Substances Control Act (TSCA) for 21 chemical substances which were the subject of premanufacture notices (PMNs). This action amends the SNURs to allow certain uses without requiring a significant new use notice (SNUN), and extends SNUN requirements to certain additional uses. EPA is amending these SNURs based on review of new data for each chemical substance. This action requires persons who intend to manufacture (including import) or process any of these 21 chemical substances for an activity that is designated as a significant new use by this proposed rule to notify EPA at least 90 days before commencing that activity. The required notification would provide EPA with the opportunity to evaluate the intended use and, if necessary, to prohibit or limit that activity before it occurs.

DATES: This final rule is effective August 31, 2015.

ADDRESSES: The docket for this action, identified by docket identification (ID) number EPA-HQ-OPPT-2014-0649, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: For technical information contact: Jim Alwood, Chemical Control Division, Office of Pollution Prevention and Toxics, Environmental Protection Agency, 1200 Pennsylvania Ave. NW., Washington, DC 20460-0001; telephone number: 202-564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

You may be potentially affected by this action if you manufacture, process, or use the chemical substances contained in this rule. The following list of North American Industrial Classification System (NAICS) codes is not intended to be exhaustive, but rather provides a guide to help readers determine whether this document applies to them. Potentially affected entities may include:

• Manufacturers or processors of one or more subject chemical substances (NAICS codes 325 and 324110), e.g., chemical manufacturing and petroleum refineries.

This action may also affect certain entities through pre-existing import certification and export notification rules under TSCA. Chemical importers are subject to the TSCA section 13 (15 U.S.C. 2612) import certification requirements promulgated at 19 CFR 12.118 through 12.127 and 19 CFR 127.28. Chemical importers must certify that the shipment of the chemical substance complies with all applicable rules and orders under TSCA. Importers of chemicals subject to a modified SNUR must certify their compliance with the SNUR requirements. The EPA policy in support of import certification appears at 40 CFR part 707, subpart B. In addition, any persons who export or intend to export the chemical substance that is the subject of a final rule are subject to the export notification provisions of TSCA section 12(b) (15 U.S.C. 2611(b)) (see § 721.20), and must comply with the export notification requirements in 40 CFR part 707, subpart D.

II. Background

A. What action is the Agency taking?

In the Federal Register of April 9, 2015 (80 FR 19037) (FRL-9924-10), EPA proposed amendments to the SNURs for 24 chemical substances in 40 CFR part 721 subpart E. This action would require persons who intend to manufacture or process these chemical substances for an activity that is designated as a significant new use by these amended rules to notify EPA at least 90 days before commencing that activity. Receipt of such notices allows EPA to assess risks that may be presented by the intended uses and, if appropriate, to regulate the proposed use before it occurs. The proposed rule included 23 chemical substances where EPA determined, based on new information, there is no need to require additional notice from persons who propose to engage in identical or similar activities, or a rational basis no longer exists for the findings that activities involving the substance may present an unreasonable risk of injury to human health or the environment required under section 5(e)(1)(A) of the Act. The proposed rule also included a chemical substance, P-01-781, where EPA is modifying the chemical identity information. EPA is issuing a final SNUR amendment for 21 of the 24 chemical substances. For 20 of those chemical substances, EPA received no public comments and is issuing the SNURs as proposed. For the chemical substance subject to the SNUR at 40 CFR 721.10182, EPA received three public comments supporting the proposed SNUR amendments. One of those comments also asked EPA to clarify if the final modified rule would allow uses of the chemical substance either alone or as a component in a blend in retail food, cold storage, transport and industrial refrigeration units; commercial refrigeration, ice machines, and refrigerated vending machines produced by original equipment manufacturers; and servicing, repair, and recharging refrigeration units at grocery stores, convenience stores, transport, and cold storage facilities. As described in the proposed rule, EPA had already evaluated stationary refrigeration uses in a previous SNUN, S-14-11 and did not determine that those uses caused significant adverse health effects. After publication of the proposed rule, EPA reached decision on an additional SNUN, S-15-5, for this chemical substance for stationary and transport refrigeration uses currently not allowed in the SNUR. Because the Agency expects transport refrigeration uses will have similar exposures to those for stationary uses and the hazard findings have not changed, EPA did not determine that those uses caused significant adverse health effects. Therefore the final SNUR amendment will allow the transport refrigeration uses described in S-15-5 and the stationery refrigeration uses described in S-15-5 and S-14-11, which includes the uses described by the commenter. As described in the proposed rule EPA is now amending the SNURs pursuant to 40 CFR 721.185.

EPA received public comments for the proposed SNUR amendments for the remaining three chemical substances of the 24 included in the proposed rule subject to SNURs at 40 CFR 721.5575, 721.9675, and 721.10515. EPA will address these three proposed SNUR amendments in a separate action.

B. What is the Agency's authority for taking this action?

Upon conclusion of the review of the 21 chemical substances in this SNUR amendment, EPA designated certain activities as significant new uses. Under § 721.185, EPA may at any time amend a SNUR for a chemical substance which has been added to subpart E of 40 CFR part 721 if EPA makes one of the determinations set forth in § 721.185. Amendments may occur on EPA's initiative or in response to a written request. Under § 721.185(b)(3), if EPA concludes that a SNUR should be amended, the Agency will propose the changes in the Federal Register, briefly describe the grounds for the action, and provide interested parties an opportunity to comment. Pursuant to § 721.185 and as described in Unit IV of the proposed rule for the 20 chemical substances EPA determined, based on new information, there is no need to require additional notice from persons who propose to engage in identical or similar activities, or a rational basis no longer exists for the findings that activities involving the substance may present an unreasonable risk of injury to human health or the environment required under section 5(e)(1)(A) of the Act. This rule also includes a chemical substance, P-01-781, where EPA is modifying the chemical identity information.

III. Applicability of the Rule to Uses Occurring Before Effective Date of the Final Rule

If uses begun after the proposed rule was published were considered ongoing rather than new, any person could defeat the SNUR by initiating the significant new use before the final rule was issued. Therefore EPA has designated the date of publication of the proposed rule as the cutoff date for determining whether the new use is ongoing. Consult the Federal Register Notice of April 24, 1990 (55 FR 17376) for a more detailed discussion of the cutoff date for ongoing uses.

Any person who began commercial manufacture or processing activities of the chemical substances in this rule for any of the significant new uses designated in the proposed SNUR after the date of publication of the proposed SNUR, must stop that activity before the effective date of the final rule. Persons who ceased those activities will have to first comply with all applicable SNUR notification requirements and wait until the notice review period, including any extensions, expires, before engaging in any activities designated as significant new uses. If a person were to meet the conditions of advance compliance under § 721.45(h), the person would be considered to have met the requirements of the final SNUR for those activities.

IV. Test Data and Other Information

EPA recognizes that TSCA section 5 does not require the development of any particular test data before submission of a SNUN. The two exceptions are:

1. Development of test data is required where the chemical substance subject to the SNUR is also subject to a test rule under TSCA section 4 (see TSCA section 5(b)(1)).

2. Development of test data may be necessary where the chemical substance has been listed under TSCA section 5(b)(4) (see TSCA section 5(b)(2)).

In the absence of a TSCA section 4 test rule or a TSCA section 5(b)(4) listing covering the chemical substance, persons are required only to submit test data in their possession or control and to describe any other data known to or reasonably ascertainable by them (see § 720.50). However, upon review of PMNs and SNUNs, the Agency has the authority to require appropriate testing. In this case, EPA recommends persons, before performing any testing, to consult with the Agency pertaining to protocol selection. To access the OCSPP test guidelines referenced in this document electronically, please go to http://www.epa.gov/ocspp and select “Test Methods and Guidelines.” The Organisation for Economic Co-operation and Development (OECD) test guidelines are available from the OECD Bookshop at http://www.oecdbookshop.org or SourceOECD at http://www.sourceoecd.org. ASTM International standards are available at http://www.astm.org/Standard/index.shtml.

The recommended testing specified in Unit IV. of the proposed rule may not be the only means of addressing the potential risks of the chemical substance. However, SNUNs submitted without any test data may increase the likelihood that EPA will take action under TSCA section 5(e), particularly if satisfactory test results have not been obtained from a prior PMN or SNUN submitter. EPA recommends that potential SNUN submitters contact EPA early enough so that they will be able to conduct the appropriate tests.

SNUN submitters should be aware that EPA will be better able to evaluate SNUNs which provide detailed information on the following:

• Human exposure and environmental release that may result from the significant new use of the chemical substances.

• Potential benefits of the chemical substances.

• Information on risks posed by the chemical substances compared to risks posed by potential substitutes.

V. SNUN Submissions

According to 40 CFR 721.1(c), persons submitting a SNUN must comply with the same notice requirements and EPA regulatory procedures as persons submitting a PMN, including submission of test data on health and environmental effects as described in § 720.50. SNUNs must be on EPA Form No. 7710-25, generated using e-PMN software, and submitted to the Agency in accordance with the procedures set forth in §§ 721.25 and 720.40. E-PMN software is available electronically at http://www.epa.gov/opptintr/newchems.

VI. Economic Analysis

EPA evaluated the potential costs of SNUN requirements for potential manufacturers and processors of the chemical substances in the rule. The Agency's complete Economic Analysis is available in the docket under docket ID number EPA-HQ-OPPT-2014-0649.

VII. Statutory and Executive Order Reviews

A. Executive Order 12866

This action will modify SNURs for 21 chemical substances that were the subject of PMNs. The Office of Management and Budget (OMB) has exempted these types of actions from review under Executive Order 12866, entitled Regulatory Planning and Review (58 FR 51735, October 4, 1993).

B. Paperwork Reduction Act (PRA)

According to PRA, 44 U.S.C. 3501 et seq., an Agency may not conduct or sponsor, and a person is not required to respond to a collection of information that requires OMB approval under PRA, unless it has been approved by OMB and displays a currently valid OMB control number. The OMB control numbers for EPA's regulations in title 40 of the CFR, after appearing in the Federal Register, are listed in 40 CFR part 9, and included on the related collection instrument or form, if applicable. EPA is amending the table in 40 CFR part 9 to list the OMB approval number for the information collection requirements contained in this rule. This listing of the OMB control numbers and their subsequent codification in the CFR satisfies the display requirements of PRA and OMB's implementing regulations at 5 CFR part 1320. This Information Collection Request (ICR) was previously subject to public notice and comment prior to OMB approval, and given the technical nature of the table, EPA finds that further notice and comment to amend it is unnecessary. As a result, EPA finds that there is “good cause” under section 553(b)(3)(B) of the Administrative Procedure Act, 5 U.S.C. 553(b)(3)(B), to amend this table without further notice and comment.

The information collection requirements related to this action have already been approved by OMB pursuant to PRA under OMB control number 2070-0012 (EPA ICR No. 574). This action does not impose any burden requiring additional OMB approval. If an entity were to submit a SNUN to the Agency, the annual burden is estimated to average between 30 and 170 hours per response. This burden estimate includes the time needed to review instructions, search existing data sources, gather and maintain the data needed, and complete, review, and submit the required SNUN.

Send any comments about the accuracy of the burden estimate, and any suggested methods for minimizing respondent burden, including through the use of automated collection techniques, to the Director, Collection Strategies Division, Office of Environmental Information (2822T), Environmental Protection Agency, 1200 Pennsylvania Ave. NW., Washington, DC 20460-0001. Please remember to include the OMB control number in any correspondence, but do not submit any completed forms to this address.

C. Regulatory Flexibility Act (RFA)

On February 18, 2012, EPA certified pursuant to RFA section 605(b) (5 U.S.C. 601 et seq.), that promulgation of a SNUR does not have a significant economic impact on a substantial number of small entities where the following are true:

1. A significant number of SNUNs would not be submitted by small entities in response to the SNUR.

2. The SNUN submitted by any small entity would not cost significantly more than $8,300.

A copy of that certification is available in the docket for this rule.

This rule is within the scope of the February 18, 2012 certification. Based on the Economic Analysis discussed in Unit VI and EPA's experience promulgating SNURs (discussed in the certification), EPA believes that the following are true:

• A significant number of SNUNs would not be submitted by small entities in response to the SNUR.

• Submission of the SNUN would not cost any small entity significantly more than $8,300.

Therefore, the promulgation of the SNUR would not have a significant economic impact on a substantial number of small entities.

D. Unfunded Mandates Reform Act (UMRA)

Based on EPA's experience with proposing and finalizing SNURs, State, local, and Tribal governments have not been impacted by these rulemakings, and EPA does not have any reasons to believe that any State, local, or Tribal government will be impacted by this final rule. As such, EPA has determined that this rule would not impose any enforceable duty, contain any unfunded mandate, or otherwise have any effect on small governments subject to the requirements of sections 202, 203, 204, or 205 of the UMRA sections 202, 203, 204, or 205 (2 U.S.C. 1501 et seq.).

E. Executive Order 13132

This action would not have a substantial direct effect on States, on the relationship between the national government and the States, or on the distribution of power and responsibilities among the various levels of government, as specified in Executive Order 13132, entitled “Federalism” (64 FR 43255, August 10, 1999).

F. Executive Order 13175

This rule would not have Tribal implications because it is not expected to have substantial direct effects on Indian Tribes. This rule would not significantly nor uniquely affect the communities of Indian Tribal governments, nor does it involve or impose any requirements that affect Indian Tribes. Accordingly, the requirements of Executive Order 13175, entitled “Consultation and Coordination with Indian Tribal Governments” (65 FR 67249, November 9, 2000), do not apply to this rule.

G. Executive Order 13045

This action is not subject to Executive Order 13045, entitled “Protection of Children from Environmental Health Risks and Safety Risks” (62 FR 19885, April 23, 1997), because this is not an economically significant regulatory action as defined by Executive Order 12866, and this action does not address environmental health or safety risks disproportionately affecting children.

H. Executive Order 13211

This action is not subject to Executive Order 13211, entitled “Actions Concerning Regulations That Significantly Affect Energy Supply, Distribution, or Use” (66 FR 28355, May 22, 2001), because this action is not expected to affect energy supply, distribution, or use and because this action is not a significant regulatory action under Executive Order 12866.

I. National Technology Transfer and Advancement Act (NTTAA)

In addition, since this action does not involve any technical standards, NTTAA section 12(d) (15 U.S.C. 272 note), does not apply to this action.

J. Executive Order 12898

This action does not entail special considerations of environmental justice related issues as delineated by Executive Order 12898, entitled “Federal Actions to Address Environmental Justice in Minority Populations and Low-Income Populations” (59 FR 7629, February 16, 1994).

VIII. Congressional Review Act (CRA)

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: June 18, 2015.
Maria J. Doa,
Director, Chemical Control Division, Office of Pollution Prevention and Toxics.

Therefore, 40 CFR chapter I is amended as follows:

PART 721—[AMENDED]

1. The authority citation for part 721 continues to read as follows:

Authority: 15 U.S.C. 2604, 2607, and 2625(c).

2. Amend § 721.522 by revising paragraphs (a)(1) and (a)(2)(i) to read as follows:

§ 721.522 Oxirane, methyl-, polymer with oxirane, mono (3,5,5,-trimethylhexyl) ether.

(a) * * *

(1) The chemical substance identified as oxirane, methyl-, polymer with oxirane, mono (3,5,5,-trimethylhexyl) ether (PMN P-99-669, SNUN S-09-1, and SNUN S-13-29; CAS No. 204336-40-3) is subject to reporting under this section for the significant new uses described in paragraph (a)(2) of this section.

(2) * * *

(i) Industrial, commercial, and consumer activities. Requirements as specified in § 721.80. A significant new use is use other than as a wetting agent, dispersing agent and defoaming/deaerating agent in waterborne coatings, inks, and paints, water based adhesives, and ultraviolet curable coatings; wetting agent in water miscible metalworking fluids, powdered construction additives for use in cementitious mortars, grouts and tile adhesives, and in liquid admixtures for concrete; and a substrate wetting and anticratering additive for ultraviolet curable inkjet ink.

* * * * *

3. Amend § 721.532 as follows:

a. Revise the section heading.

b. Revise paragraph (a)(1).

c. Revise paragraph (a)(2)(i).

d. Add paragraph (a)(3).

e. Revise paragraph (b)(1).

The revisions and addition read as follows:

§ 721.532 1-Butanol, 3-methoxy-3-methyl-, acetate.

(a) * * *

(1) The chemical substance identified as 1-butanol, 3-methoxy-3-methyl-, acetate (PMN P-00-618; SNUN S-05-03; and SNUN S-11-4; CAS No. 103429-90-9) is subject to reporting under this section for the significant new uses described in paragraphs (a)(2) and (a)(3) of this section.

(2) * * *

(i) Industrial, commercial, and consumer activities. Requirements as specified in § 721.80. The significant new use is any use other than the use described in P-00-618.

* * * * *

(3) The significant new uses for any use other than the use described in P-00-618:

(i) Protection in the workplace. Requirements as specified in § 721.63(a)(1), (a)(3)(i), (b) (concentration set at 0.1 percent), and (c). When determining which persons are reasonably likely to be exposed as required for § 721.63(a)(1) engineering control measures (e.g., enclosure or confinement of the operation, general and local ventilation) or administrative control measures (e.g., workplace policies and procedures) shall be considered and implemented to prevent exposure, where feasible. Butyl rubber gloves with a minimum thickness of 16.6 mils or Silver shield gloves with a minimum thickness of 2.7 mils have been tested in accordance with the American Society for Testing Materials (ASTM) F739 method and found by EPA to satisfy the consent orders and § 721.63(a)(2)(i) requirements for dermal protection to 100 percent chemical substance. Silver Shield gloves with a minimum thickness of 2.7 mils have been tested in accordance with the American Society for Testing Materials (ASTM) F739 method and found by EPA to satisfy the consent orders and § 721.63(a)(2)(i) requirements for dermal protection for paint formulations where concentrations of the chemical substance is 10% or less. Gloves and other dermal protection may not be used for a time period longer than they are actually tested and must be replaced at the end of each work shift.

(ii) Hazard communication program. Requirements as specified in § 721.72(a), (b) (concentration set at 0.1 percent), (c), (d), (f), (g)(1)(iv), (g)(1)(iv), (g)(2)(i), (g)(2)(ii), (g)(2)(iii), (g)(2)(v), (g)(2)(v), and (g)(5).

(iii) Industrial, commercial, and consumer activities. Requirements as specified in § 721.80(f), (o), and any application method that generates a vapor, mist, or aerosol when the percent concentration of the SNUN substance in the final product exceeds 10%.

(b) * * *

(1) Recordkeeping. Recordkeeping requirements as specified in § 721.125(a) through (i) are applicable to manufacturers and processors of this substance.

* * * * *

4. Amend § 721.633 as follows:

a. Revise paragraph (a)(1).

b. Revise paragraph (a)(2)(i).

c. Remove paragraph (a)(2)(iii).

d. Revise paragraph (b)(1).

The revisions read as follows:

§ 721.633 Aluminosilicates, phospho-.

(a) * * *

(1) The chemical substance identified as aluminosilicates, phospho- (PMN P-98-1275 and SNUN S-11-10; CAS No. 201167-69-3) is subject to reporting under this section for the significant new uses described in paragraph (a)(2) of this section.

(2) * * *

(i) Protection in the workplace. Requirements as specified in § 721.63(a)(4), (b), and (c). When determining which persons are reasonably likely to be exposed as required for § 721.63(a)(4) engineering control measures (e.g., enclosure or confinement of the operation, general and local ventilation) or administrative control measures (e.g., workplace policies and procedures) shall be considered and implemented to prevent exposure, where feasible. The following NIOSH-certified respirators with an APF of at least 50 meet the requirements of § 721.63(a)(4): NIOSH-certified air-purifying, tight-fitting full-face respirator equipped with N100 (if oil aerosols absent), R100, or P100 filters; NIOSH-certified powered air-purifying respirator equipped with a tight-fitting full facepiece and high efficiency particulate air (HEPA) filters; NIOSH-certified supplied-air respirator operated in positive pressure demand or continuous flow mode and equipped with a hood, or helmet or tight-fitting facepiece. As an alternative to the respiratory requirements listed here, a manufacturer or processor may choose to follow the New Chemical Exposure Limit (NCEL) provisions listed in the TSCA section 5(e) consent order for these substances. The NCEL is 0.1 mg/m³ as an 8-hour time weighted average verified by actual monitoring data.

* * * * *

(b) * * *

(1) Recordkeeping. Recordkeeping requirements as specified in § 721.125(a), (b), (c), (d), (f), (g), and (h) are applicable to manufacturers and processors of this substance.

* * * * *

5. Amend § 721.2076 by revising paragraphs (a)(1) and (a)(2)(i) to read as follows:

§ 721.2076 D-Glucuronic acid, polymer with 6-deoxy-L-mannose and D-glucose, acetate, calcium magnesium potassium sodium salt.

(a) * * *

(1) The chemical substance identified as D-Glucuronic acid, polymer with 6-deoxy-L-mannose and D-glucose, acetate, calcium magnesium potassium sodium salt (PMN P-00-7; SNUN S-05-1; SNUN S-06-4; SNUN S-07-03; and SNUN S-07-5; CAS No. 125005-87-0) is subject to reporting under this section for the significant new use described in paragraph (a)(2) of this section.

(2) * * *

(i) Industrial, commercial, and consumer activities. Requirements as specified in § 721.80. The significant new use is any use other than manufacture of the substance where greater than 5 percent of the chemical substance consists of particle sizes below 10 microns.

* * * * *

6. Amend § 721.5185 as follows:

a. Revise paragraph (a)(1).

b. Revise paragraph (a)(2)(iii).

c. Add paragraph (a)(2)(iv).

d. Revise paragraph (b)(1).

The revisions and addition read as follows:

§ 721.5185 2-Propen-1-one, 1-(4-morpholinyl)-.

(a) * * *

(1) The chemical substance identified as 2-Propen-1-one, 1-(4-morpholinyl)- (PMN P-95-169; SNUN S-08-7; and SNUN S-14-1; CAS No. 5117-12-4) is subject to reporting under this section for the significant new uses described in paragraph (a)(2) of this section. The requirements of this rule do not apply to quantities of the chemical substance after it has been completely reacted (cured) because 2-Propen-1-one, 1-(4-morpholinyl)- will no longer exist.

(2) * * *

(iii) Industrial, commercial, and consumer activities. Requirements as specified in § 721.80(y)(1). It is a significant new use to use the chemical substance for any use other than as a monomer for use in ultraviolet ink jet applications unless the chemical substance is processed and used in an enclosed process.

(iv) Release to water. Requirements as specified in § 721.90(a)(4), (b)(4), and (c)(4) (N = 100).

(b) * * *

(1) Recordkeeping. Recordkeeping requirements as specified in § 721.125(a) through (i) and (k) are applicable to manufacturers and processors of this chemical substance.

* * * * *

7. Amend § 721.5645 by revising paragraphs (a)(1) and (a)(2)(i) to read as follows:

§ 721.5645 Pentane 1,1,1,2,3,4,4,5,5,5,-decafluoro.

(a) * * *

(1) The chemical substance identified as pentane 1,1,1,2,3,4,4,5,5,5,-decafluoro (PMN P-95-638, SNUN P-97-79, and SNUN S-06-8; CAS No. 138495-42-8) is subject to reporting under this section for the significant new uses described in paragraph (a)(2) of this section.

(2) * * *

(i) Industrial, commercial, and consumer activities. Requirements as specified in § 721.80. A significant new use is any use of the substance other than the uses as described in P-95-638, P-97-79, or S-06-8.

* * * * *

8. Amend § 721.5713 by revising paragraphs (a)(1) and (a)(2)(i) to read as follows:

§ 721.5713 Phenol—biphenyl polymer condensate (generic).

(a) * * *

(1) The chemical substance identified generically as a phenol—biphenyl polymer condensate (PMN P-00-1220 and S-07-2) is subject to reporting under this section for the significant new use described in paragraph (a)(2) of this section.

(2) * * *

(i) Release to water. Requirements as specified § 721.90(a)(4), (b)(4), and (c)(4) (N = 5).

* * * * *

9. Amend § 721.8145 by revising paragraphs (a)(1) and (a)(2)(i) to read as follows:

§ 721.8145 Propane,1,1,1,2,2,3,3-heptafluoro-3-methoxy-.

(a) * * *

(1) The chemical substance identified as propane,1,1,1,2,2,3,3-heptafluoro-3-methoxy- (PMN P-01-320; SNUN S-04-2; and SNUN 11-1; CAS No. 375-03-1) is subject to reporting under this section for the significant new use described in paragraph (a)(2) of this section.

(2) * * *

(i) Industrial, commercial, and consumer activities. Requirements as specified in § 721.80. A significant new use is any use of the chemical substance other than as a heating transfer fluid, refrigerant, flush cleaning, foam blowing, deposition coatings, histology baths, vapor degreasing, and industrial and commercial aerosol spray cleaning.

* * * * *

10. Amend § 721.9501 by revising paragraph (a)(1) to read as follows:

§ 721.9501 Silane, triethoxy[3-oxiranylmethoxy)propyl]-.

(a) * * *

(1) The chemical substance identified as silane, triethoxy[3-oxiranylmethoxy)propyl]- (PMN P-01-781; CAS No. 2602-34-8) is subject to reporting under this section for the significant new use described in paragraph (a)(2) of this section.

* * * * *

11. Amend § 721.9502 by revising paragraphs (a)(1) and (a)(2)(i) to read as follows:

§ 721.9502 Siloxanes and silicones, aminoalkyl, fluorooctyl, hydroxy-terminated salt (generic).

(a) * * *

(1) The chemical substance identified generically as siloxanes and silicones, aminoalkyl, fluorooctyl, hydroxy-terminated salt (PMN P-00-1132 and SNUN S-11-5) is subject to reporting under this section for the significant new use described in paragraph (a)(2) of this section.

(2) * * *

(i) Industrial, commercial, and consumer activities. Requirements as specified in § 721.80(y)(1). A significant new use is any use of the chemical substance other than in graffiti systems, as surface treatment and additive for coatings, adhesives, sealants, paste, insulation and textiles for porous, non-porous, ceramic, metal, glass, plastic, wood and leather surfaces or a surface treatment agent for inorganic filler particles.

* * * * *

12. Amend § 721.9595 by revising the section heading and paragraphs (a)(1) and (a)(2)(i) to read as follows:

§ 721.9595 Benzenesulfonic acid, mono C-10-16-alkyl derivs., compounds with 2-propen-1-amine and Alkyl benzene sulfonic acids and alkyl sulfates, amine salts.

(a) * * *

(1) The chemical substances identified as benzenesulfonic acid, mono C-10-16-alkyl derivs., compds. with 2-propen-1-amine (PMN P-97-296 and SNUN S-03-10; CAS No. 195008-77-6) and the chemical substances identified generically as alkyl benzene sulfonic acids and alkyl sulfates, amine salts (PMNs P-97-297/298/299 and SNUNs S-03-11/12/13) are subject to reporting under this section for the significant new uses described in paragraph (a)(2) of this section.

(2) * * *

(i) Release to water. Requirements as specified in § 721.90(a)(4), (b)(4), and (c)(4) N = 30.

* * * * *

13. Amend § 721.9892 by revising the section heading and paragraphs (a)(1) and (a)(2)(i) to read as follows:

§ 721.9892 1,3-Dimethyl-2-imidazolidinone.

(a) * * *

(1) The chemical substance identified as 1,3-Dimethyl-2-imidazolidinone (PMN P-93-1649, SNUN S-04-3 and S-11-3; CAS No. 80-73-9) is subject to reporting under this section for the significant new uses described in paragraph (a)(2) of this section.

(2) * * *

(iii) Industrial, commercial, and consumer activities. Requirements as specified in § 721.80(q). A significant new use is non-industrial use other than the commercial uses described in the S-04-3 and S-11-3.

* * * * *

14. Amend § 721.10008 as follows:

a. Revise paragraph (a)(2)(ii).

b. Remove paragraph (a)(2)(iii).

c. Revise paragraph (b)(1).

b. Remove paragraph (b)(3).

The revisions read as follows:

§ 721.10008 Manganese strontium oxide (MnSrO3).

(a) * * *

(2) * * *

(ii) Industrial, commercial, and consumer activities. Requirements as specified in § 721.80(k) (manufacture, processing, or use of the PMN substance if the particle size is less than 10 microns).

(b) * * *

(1) Recordkeeping. Recordkeeping requirements as specified in § 721.125(a), (b), (c), (f), (g), (h), and (i) are applicable to manufacturers and processors of this substance.

* * * * *

15. Amend § 721.10182 by revising paragraphs (a)(1) and (a)(2)(i) to read as follows:

§ 721.10182 1-Propene, 2,3,3,3-tetrafluoro-.

(a) * * *

(1) The chemical substance identified as 1-propene, 2,3,3,3-tetrafluoro- (PMN P-07-601, SNUN S-14-11, and SNUN S-15-5; CAS No. 754-12-1) is subject to reporting under this section for the significant new uses described in paragraph (a)(2) of this section.

(2) * * *

(i) Industrial, commercial, and consumer activities. A significant new use is:

(A) Use other than as a refrigerant: In motor vehicle air conditioning systems in new passenger cars and vehicles (i.e., as defined in 40 CFR 82.32(c) and (d)), in stationary and transport refrigeration, or in stationary air conditioning.

(B) Section 721.80(m) (commercial use other than: In passenger cars and vehicles in which the original charging of motor vehicle air conditioning systems with the PMN substance was done by the motor vehicle original equipment manufacturer (OEM), in stationary and transport refrigeration, or in stationary air conditioning).

(C) Section 721.80(o) (use in consumer products other than products used to recharge the motor vehicle air conditioning systems in passenger cars and vehicles in which the original charging of motor vehicle air conditioning systems with the PMN substance was done by the motor vehicle OEM).

* * * * *

16. Amend § 721.10283 as follows:

a. Revise paragraph (a)(2)(i).

b. Revise paragraph (a)(2)(ii).

c. Revise paragraph (a)(2)(iii).

d. Remove paragraph (a)(2)(iv).

e. Revise paragraph (b)(1).

The revisions read as follows:

§ 721.10283 Poly[oxy(methyl-1,2- ethanediyl)], .alpha.-sulfo-.omega.-hydroxy-, C12-13-branched and linear alkyl ethers, sodium salts.

(a) * * *

(2) * * *

(i) Industrial, commercial, and consumer activities. Requirements as specified in § 721.80(l).

(ii) Disposal. Requirements as specified in § 721.85. A significant new of the substances is any method of disposal of a waste stream containing the PMN substances other than by incineration or by injection into a Class I or II waste disposal well.

(iii) Release to water. Requirements as specified in § 721.90(a)(2)(ii), (b)(2)(ii), and (c)(2)(ii).

(b) * * *

(1) Recordkeeping. Recordkeeping requirements as specified in § 721.125(a), (b), (c), (i), and (j) are applicable to manufacturers, importers, and processors of this substance.

* * * * *

17. Amend § 721.10284 as follows:

a. Revise paragraph (a)(2)(i).

b. Revise paragraph (a)(2)(ii).

c. Revise paragraph (a)(2)(iii).

d. Remove paragraph (a)(2)(iv).

e. Revise paragraph (b)(1).

The revisions read as follows:

§ 721.10284 Poly[oxy(methyl-1,2-ethanediyl)], .alpha.-sulfo-.omega.-hydroxy-, C14-15-branched and linear alkyl ethers, sodium salts.

(a) * * *

(2) * * *

(i) Industrial, commercial, and consumer activities. Requirements as specified in § 721.80(l).

(ii) Disposal. Requirements as specified in § 721.85. A significant new of the substances is any method of disposal of a waste stream containing the PMN substances other than by incineration or by injection into a Class I or II waste disposal well.

(iii) Release to water. Requirements as specified in § 721.90(a)(2)(ii), (b)(2)(ii), and (c)(2)(ii).

(b) * * *

(1) Recordkeeping. Recordkeeping requirements as specified in § 721.125(a), (b), (c), (i), and (j) are applicable to manufacturers, importers, and processors of this substance.

* * * * *

[FR Doc. 2015-15917 Filed 6-29-15; 8:45 am]

BILLING CODE 6560-50-P